DEPARTMENT OF THE INTERIOR

National Park Service

[NPS-WASO-NAGPRA-NPS0033677; PPWOCRADN0-PCU00RP14.R50000]

Notice of Inventory Completion: Nebraska State Historical Society DBA History Nebraska, Lincoln, NE

AGENCY: National Park Service, Interior.

ACTION: Notice.

SUMMARY: History Nebraska has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to History Nebraska. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to History Nebraska at the address in this notice by May 6, 2022.

FOR FURTHER INFORMATION CONTACT: Dave Williams, State Archeologist, History Nebraska, 5050 North 32nd Street, Lincoln, NE 68504, telephone (402) 219-2759, email dave.williams@nebraska.gov.

SUPPLEMENTARY INFORMATION: Notice is here given in accordance with the Native American Graves Protection and Repatriation Act (NAGPRA), 25 U.S.C. 3003, of the completion of an inventory of human remains under the control of History Nebraska, Lincoln, NE. The human remains were removed from Dakota County, NE.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by History Nebraska professional staff in consultation with representatives of the Omaha Tribe of Nebraska.

History and Description of the Remains

At an unknown date, human remains representing, at minimum, one individual were removed from archeological site 25DK5 (Big Village of the Omaha) near Homer, NE, by Elmer E. Blackman. Blackman, an early 20th century History Nebraska archeologist, collected a skull fragment. The human remains belong to an adult of unknown sex. No known individual was identified. No associated funerary objects are present.

Big Village was occupied intermittently by the Omaha Tribe of Nebraska from the 1790s to the 1830s.

Determinations Made by History Nebraska

Officials of History Nebraska have determined that:

• Pursuant to 25 U.S.C. 3001(9), the human remains described in this notice represent the physical remains of one individual of Native American ancestry.

• Pursuant to 25 U.S.C. 3001(2), there is a relationship of shared group identity that can be reasonably traced between the Native American human remains and the Omaha Tribe of Nebraska.

Additional Requestors and Disposition

Lineal descendants or representatives of any Indian Tribe or Native Hawaiian organization not identified in this notice that wish to request transfer of control of these human remains should submit a written request with information in support of the request to Dave Williams. State Archeologist, History Nebraska, 5050 North 32nd Street, Lincoln, NE 68504, telephone (402) 219-2759, email dave.williams@nebraska.gov, by May 6, 2022. After that date, if no additional requestors have come forward, transfer of control of the human remains to the Omaha Tribe of Nebraska may proceed.

History Nebraska is responsible for notifying the Omaha Tribe of Nebraska that this notice has been published.

Dated: March 30, 2022.
Melanie O'Brien,
Manager, National NAGPRA Program.

[FR Doc. 2022-07173 Filed 4-5-22; 8:45 am]

BILLING CODE 4312-52-P